DEPARTMENT OF TRANSPORTATION

Federal Aviation Administration

14 CFR Part 39

[Docket No. FAA-2012-0731; Directorate Identifier 2012-CE-020-AD; Amendment 39-17334; AD 2013-02-13]

RIN 2120-AA64

Airworthiness Directives; Piper Aircraft, Inc.

AGENCY: Federal Aviation Administration (FAA), DOT.

ACTION: Final rule.

SUMMARY: We are adopting a new airworthiness directive (AD) for certain Piper Aircraft, Inc. (type certificate previously held by The New Piper Aircraft Inc.) PA-28, PA-32, PA-34, and PA-44 airplanes. This AD was prompted by reports of control cable assembly failures that may lead to failure of the horizontal stabilator control system and could result in loss of pitch control. This AD requires inspections of the stabilator control system and replacement of parts as necessary. We are issuing this AD to correct the unsafe condition on these products.

DATES: This AD is effective March 11, 2013.

The Director of the Federal Register approved the incorporation by reference of a certain publication listed in the AD as of March 11, 2013.

ADDRESSES: For service information identified in this AD, contact Piper Aircraft, Inc., 2926 Piper Drive, Vero Beach, Florida 32960; telephone: (772) 567-4361; Internet: http://www.piper.com/pages/publications.cfm. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Hector Hernandez, Aerospace Engineer, FAA, Atlanta Aircraft Certification Office, 1701 Columbia Avenue, College Park, Georgia 30337; telephone: (404) 474-5587; fax: (404) 474-5606; email: hector.hernandez@faa.gov.

SUPPLEMENTARY INFORMATION:

Discussion

We issued a notice of proposed rulemaking (NPRM) to amend 14 CFR part 39 to include an AD that would apply to the specified products. That NPRM published in the Federal Register on August 2, 2012 (77 FR 45979). That NPRM proposed to require inspections of the stabilator control system and replacement of parts as necessary.

Comments

We gave the public the opportunity to participate in developing this AD. The following presents the comments received on the proposal and the FAA's response to each comment.

Request To Rescind the AD

Gregory E. Sniegowski, Carl Poplawsky, and Eric Stendahl stated that since inspections of the control systems and pulleys are already part of the annual inspection, the requirements of this AD would seem to be redundant and that the NPRM should be withdrawn.

We do not agree. The service difficulty report (SDR) database shows that certain Piper models have multiple reports of cracks, corrosion, failure of the turnbuckle, control cable fraying, or cable swage end breaks. This AD was prompted by reports concerning an accident on a Piper Model PA-32R-301T and an incident on a Piper Model PA-32R-300 airplane.

NTSB Support

Deborah A.P. Hersman, Chairman, National Transportation Safety Board (NTSB), stated that two special airworthiness information bulletins (SAIBs) have been issued that recommend inspecting the entire surface of each cable terminal, turnbuckle, or other cable fittings for corrosion or cracking. Within the past 2 years, the NTSB has investigated two accidents and one incident involving Piper airplanes where control cable assembly failures due to stress corrosion cracking led to failures of the horizontal stabilator control system. She stated that the fact these events continue to occur more than 10 years after the SAIBs were issued shows that the SAIBs were not effective. The NTSB supports the need for this AD.

We concur with the findings by the NTSB.

Removal of Surface Corrosion

Joseph Boenzi stated that we should revise the AD to allow an individual to remove the surface corrosion on a turnbuckle by using a cleaning agent and then making a determination if the part is airworthy. There have been reports that surface corrosion on turnbuckles could be easily removed with scotch-brite.

We agree because Piper investigated the possibility of using scotch-brite to remove surface corrosion and found it to be acceptable. We will change this AD to reference the revised Piper Aircraft, Inc. Mandatory Service Bulletin No. 1245A, dated November 28, 2012, which incorporated cleaning agents and scotch-brite.

Conclusion

We reviewed the relevant data, considered the comments received, and determined that air safety and the public interest require adopting the AD with the change described previously and minor editorial changes. We have determined that these minor changes:

• Are consistent with the intent that was proposed in the NPRM (77 FR 45979, August 2, 2012) for correcting the unsafe condition; and

• Do not add any additional burden upon the public than was already proposed in the NPRM (77 FR 45979, August 2, 2012).

We also determined that these changes will not increase the economic burden on any operator or increase the scope of the AD.

Costs of Compliance

We estimate that this AD affects 34,013 airplanes of U.S. registry.

We estimate the following costs to comply with this AD:

Estimated Costs
Action | Labor cost | Parts cost | Cost per product | Cost on U.S. operators
Inspection of the horizontal stabilator control system | 5 work-hours × $85 per hour = $425 | Not applicable | $425 | $14,455,525

We estimate the following costs to do any necessary replacements that would be required based on the results of the inspection. We have no way of determining the number of aircraft that might need these replacements:

On-Condition Costs
Action | Labor cost | Parts cost | Cost per product
Replacement of all stabilator control cable system—per set of cables | 10 work-hours × $85 per hour = $850 | $608 | $1,458

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-02-13 Piper Aircraft, Inc.: Amendment 39-17334; Docket No. FAA-2012-0731; Directorate Identifier 2012-CE-020-AD.

(a) Effective Date

This AD is effective March 11, 2013.

(b) Affected ADs

None.

(c) Applicability

This AD applies to Models PA-28-236, PA-28-140, PA-28-150, PA-28-151, PA-28-160, PA-28-161, PA-28-180, PA-28-181, PA-28-201T, PA-28R-201, PA-28-235, PA-28R-201T, PA-28S-160, PA-28S-180, PA-28R-180, PA-28R-200, PA-28RT-201, PA-28RT-201T, PA-32-260, PA-32-301, PA-32-301T, PA-32-300, PA-32R-300, PA-32R-301T, PA-32R-301 (SP), PA-32R-301 (HP), PA-32RT-300, PA-32RT-300T, PA-32S-300, PA-32-301FT, PA-32-301XTC, PA-34-200, PA-34-200T, PA-34-220T, PA-44-180, and PA-44-180T airplanes, all serial numbers, certificated in any category.

(d) Subject

Joint Aircraft System Component (JASC)/Air Transport Association (ATA) of America Code 2740, Stabilizer Control System.

(e) Unsafe Condition

This AD was prompted by reports of control cable assembly failures that may lead to failure of the horizontal stabilator control system and could result in loss of pitch control. This AD requires inspections of the stabilator control system and replacement of parts as necessary. We are issuing this AD to correct the unsafe condition on these products.

(f) Compliance

Comply with this AD within the compliance times specified, unless already done.

(g) Inspection

(1) Initially inspect the stabilator control system following instructions 1 through 10 of Piper Aircraft, Inc. Mandatory Service Bulletin No. 1245A, dated November 28, 2012, as follows:

(i) If the age of the airplane is at or exceeds 15 years as of March 11, 2013 (the effective date of this AD): At the next annual inspection or within the next 12 months after March 11, 2013 (the effective date of this AD).

(ii) If the age of the airplane is less than 15 years as of March 11, 2013 (the effective date of this AD): When the age of the airplane reaches 15 years, then at the next annual inspection or within 12 months after the airplane reaches 15 years of age.

(iii) If the age of the airplane cannot be determined as of March 11, 2013 (the effective date of this AD): At the next annual inspection or within the next 12 months after March 11, 2013 (the effective date of this AD).

Note for paragraph (g)(1)(i), (g)(1)(ii), and (g)(1)(iii) of this AD: To assist in determining the age of the airplane, you may contact Piper Aircraft, Inc., 2926 Piper Drive, Vero Beach, Florida 32960; telephone: (772) 567-4361; Internet: www.piper.com; or access the FAA airplane registry database at: http://registry.faa.gov/aircraftinquiry/Serial_Inquiry.aspx.

(2) After the applicable initial inspection required in paragraph (g)(1) of this AD, repetitively thereafter at intervals not to exceed 2,000 hours time-in-service or 7 years, whichever occurs first, inspect the stabilator control system following instructions 1 through 10 of Piper Aircraft, Inc. Mandatory Service Bulletin No. 1245A, dated November 28, 2012.

(h) Repair

If any cracks, corrosion, or cable fraying are found during any inspection required in paragraphs (g)(1) or (g)(2) of this AD, before further flight, replace the damaged part with an airworthy part.

(i) Credit for Actions Accomplished in Accordance With Previous Service Information

This AD provides credit for the actions required in this AD if already done before March 11, 2013 (the effective date of this AD) following Piper Aircraft, Inc. Mandatory Service Bulletin No. 1245, dated May 3, 2012.

(j) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

For more information about this AD, contact Hector Hernandez, Aerospace Engineer, FAA, Atlanta ACO, 1701 Columbia Avenue, College Park, Georgia 30337; telephone: (404) 474-5587; fax: (404) 474-5606; email: hector.hernandez@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Aircraft, Inc. Mandatory Service Bulletin No. 1245A dated November 28, 2012.

(ii) Reserved.

(3) For Piper Aircraft, Inc. service information identified in this AD, contact Piper Aircraft, Inc., 2926 Piper Drive, Vero Beach, Florida 32960; telephone: (772) 567-4361; Internet: http://www.piper.com/pages/publications.cfm.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on January 22, 2013.
Earl Lawrence,
Manager, Small Airplane Directorate, Aircraft Certification Service.

[FR Doc. 2013-02075 Filed 2-1-13; 8:45 am]

BILLING CODE 4910-13-P